DEPARTMENT OF COMMERCE

Foreign-Trade Zones Board

[Docket 12-2007]

Foreign-Trade Zone 22 - Chicago, IL, Application for Subzone Status, Medline Industries, Inc., (Medical Supply Distribution and Processing)

An application has been submitted to the Foreign-Trade Zones Board (the Board) by the Illinois International Port District, grantee of FTZ 22, requesting special-purpose subzone status for the medical supply distribution and processing (kitting) facilities of Medline Industries, Inc. (Medline), located in Mundelein, Waukegan, and Libertyville, Illinois. The application was submitted pursuant to the provisions of the Foreign-Trade Zones Act, as amended (19 U.S.C. 81a-81u), and the regulations of the Board (15 CFR part 400). It was formally filed on March 28, 2007.

The proposed subzone would include Medline's facilities at four sites in Lake County, Illinois: Site 1 (one building/8.59 acres/203,500 sq.ft.) - 1170 Northpoint Boulevard in Waukegan, Illinois, about 25 miles north of Chicago; Site 2 (one building/9.11 acres/145,898 sq.ft.) - 1710 Lakeside Lane, Waukegan, located one mile south of Site 1; Site 3 (three buildings/43.14 acres/502,876 sq.ft.) - 1200 Townline Road, Mundelein, some six miles southwest of Site 1; and, Site 4 (one building/35 acres/600,000 sq.ft.) - 1501 Harris Road, Libertyville, about two miles north of Site 3. The facilities are used for warehousing and distribution and processing (kitting) of foreign-origin and domestic medical supplies and equipment for the U.S. market and export. FTZ procedures would be utilized to support Medline's Illinois-based distribution activity that competes with facilities located abroad.

Finished medical supplies and equipment to be admitted to the proposed subzone for distribution would include: apparel items of cotton and man-made fibers (gowns, shirts, overalls, caps, baby shirts, scrubs, covers, socks, pajamas, slippers), woven/non-woven bed linens, towels, pillows, diapers, aprons, canes, walkers, wheelchairs, scooters, grab bars, beds, commodes, wooden bedroom furniture, folios, leather and man-made fiber travel bags, thermometers, vacuum pumps, medicaments, gauze, insecticides, fungicides, disinfectants, diagnostic reagents, plastic sheet/strip/foil/film, articles of plastic, paper products, tableware, glassware, belts, garment hangers, clippers, razors, lab equipment, batteries, portable lamps, alarms, medical/surgical/diagnostic equipment and appliances, exercise/therapy equipment, brooms/brushes/mops, writing instruments, artworks, watches and clocks, watch cases, and toiletry items. The application states that all foreign textile and apparel products classified within textile import categories that are subject to quota would be admitted to the proposed subzone under domestic (duty-paid) status (19 CFR § 146.43) or privileged foreign status (19 CFR § 146.41).

Medline also plans to conduct certain kitting operations under FTZ procedures. The company is requesting authority to assemble surgical procedure tray kits (duty free). Imported components that could be included in a kit include: articles of plastic (trays, basins, medcups and lids, dishes, specimen containers), suction hose, holsters, rubber gloves, cleaning wipes, paper bags, medical/surgical appliances and/or instruments, gauze items, paper sheets/drapes/garments, syringes, woven/non-woven fabrics, surgical towels, disposable headgear and apparel (duty rate range: free - 17.6%%). The application indicates that Medline will admit all foreign-origin items classified within textile import quota categories to the proposed subzone under domestic (duty-paid) status or in privileged foreign status when used in the kitting activity.

FTZ procedures would exempt Medline from customs duty payments on foreign products that are re-exported. On domestic sales, duty payments would be deferred until the foreign merchandise is shipped from the facilities and entered for U.S. consumption. For its processing activity, Medline would be able to elect the duty rate that applies to finished surgical procedure tray kits (free) for the foreign-sourced inputs noted above. Medline would also realize significant logistical benefits through the use of weekly entry procedures. The application indicates that all of the savings from FTZ procedures would help improve the facilities' international competitiveness.

In accordance with the Board's regulations, a member of the FTZ Staff has been designated examiner to investigate the application and report to the Board.

Public comment is invited from interested parties. Submissions (original and 3 copies) shall be addressed to the Board's Executive Secretary at the address below. The closing period for their receipt is June 4, 2007. Rebuttal comments in response to material submitted during the foregoing period may be submitted during the subsequent 15-day period to June 19, 2007.

A copy of the application and accompanying exhibits will be available for public inspection at each of the following locations: U.S. Department of Commerce Export Assistance Center, Suite 212, 28055 Ashley Circle, Libertyville, Illinois 60048; and, Office of the Executive Secretary, Foreign-Trade Zones Board, Room 2814B, U.S. Department of Commerce, 1401 Constitution Avenue, NW, Washington, DC 20230-0002. For further information, contact Pierre Duy at pierre_duy@ita.doc.gov, or (202) 482-1378.

Dated: March 28, 2007.
Andrew McGilvray,
Executive Secretary.

[FR Doc. E7-6407 Filed 4-4-07; 8:45 am]

BILLING CODE 3510-DS-S